DEPARTMENT OF COMMERCE

National Oceanic and Atmospheric Administration

[Docket No. 011206293-3182-02; I.D. 041106B]

Pacific Halibut Fishery; Guideline Harvest Levels for the Guided Recreational Halibut Fishery

AGENCY: National Marine Fisheries Service (NMFS), National Oceanic and Atmospheric Administration (NOAA), Department of Commerce.

ACTION: Notice of guideline harvest level.

SUMMARY: NMFS provides notice of the guideline harvest level (GHL) for the guided sport halibut fishery (charter fishery) in the International Pacific Halibut Commission (IPHC) regulatory Areas 2C and 3A. The GHL provides a benchmark harvest level for participants in the charter fishery. This notice is necessary to meet the management and regulatory requirements for the GHL and to inform the public about the 2006 GHL for the charter fishery.

DATES: The GHLs are effective beginning 1200 hrs, Alaska local time (A.l.t.), February 1, 2006, and will close at 2400 hours, A.l.t., December 31, 2006. This period is specified by the IPHC as the sport fishing season in all waters of Alaska.

FOR FURTHER INFORMATION CONTACT: Jason Gasper, 907 586 7228, or e-mail at jason.gasper@noaa.gov.

SUPPLEMENTARY INFORMATION: NMFS implemented a final rule to establish GHLs in IPHC regulatory areas 2C and 3A for the harvest of Pacific halibut (Hippoglosses stenolepis) by the charter fishery on August 8, 2003 (68 FR 47256). The GHLs are intended to serve as a benchmark harvest level for participants in the charter fishery.

This announcement is consistent with § 300.65(c)(2), which requires that GHLs for IPHC regulatory Areas 2C and 3A be specified by NMFS and announced by publication in the Federal Register no later than 30 days after receiving information from the IPHC which establishes the constant exploitation yield (CEY) for halibut in IPHC regulatory areas 2C and 3A. Based on the regulations at § 300.65(c)(1), the CEY established by the IPHC in 2006 in Area 2C results in a GHL of 1,432,000 pounds (649.5 mt), and results in a GHL of 3,650,000 pounds (1,655.6 mt) in Area 3A.

This notice does not require any regulatory action by NMFS and is intended to serve as an notice of the GHLs in Areas 2C and 3A for 2006. If the GHL is exceeded in 2006, NMFS will notify the North Pacific Fishery Management Council (Council) in writing within 30 days pursuant to regulations at § 300.65(c)(3). The Council is not required to take action, but may recommend additional management measures after receiving notification that a GHL has been exceeded.

Classification

This notice does not require any additional regulatory action by NMFS and does not impose any additional restrictions on harvests by the charter fishery. If the GHL is exceeded in any year, the Council would be notified, but no action would be required to be taken. This process of notification is intended to provide the Council with an indication of the level of Pacific halibut harvest by the charter fishery in a given year and could prompt future action.

Authority: 16 U.S.C. 773 et seq.

Dated: April 11, 2006.
Alan D. Risenhoover,
Acting Director, Office of Sustainable Fisheries, National Marine Fisheries Service.

[FR Doc. E6-5683 Filed 4-14-06; 8:45 am]

BILLING CODE 3510-22-S